ENVIRONMENTAL PROTECTION AGENCY

[FRL-7829-6]

Subject to Availability of Funding Solicitation Notice; Environmental Information Exchange Network Grant Program; Fiscal Year 2005

SUMMARY: The United States Environmental Protection Agency (EPA) is now soliciting applications for the FY 2005 Environmental Information Exchange Network Grant Program. The Exchange Network is a nationwide information systems network that facilitates the electronic reporting and exchange of environmental data among EPA and its state, tribal, and territorial partners. The Exchange Network will make it easier for EPA and its partners to obtain the timely and accurate information they need when making decisions concerning the natural environment and related human health issues.

Subject to the availability of funding, the FY 2005 Exchange Network Grant Program will provide funding to states, territories, tribes, and tribal consortia to develop the information management and technology (IM/IT) capabilities they need to participate in the Exchange Network. This financial assistance program supports the development of Exchange Network infrastructure; common data standards and formats; and various data flows, including exchanges of geospatial data.

The FY 2005 Exchange Network Grant Program will provide the following categories of assistance:

• Readiness Category—supports the development of IM/IT capabilities needed to participate in the Exchange Network; provides up to $75,000 per tribal entity and up to $150,000 per state/territorial entity;

• Implementation Category—supports the development of Exchange Network data flows, data standards, eXtensible Markup Language (XML) schema, and Web services; provides up to $150,000 per tribal entity and up to $300,000 per state/territorial entity; and

• Challenge Category—supports the planning and development of collaborative, innovative projects that demonstrate the value of the Exchange Network; provides up to $300,000 per tribal entity and up to $750,000 per state/territorial entity.

Applications must be submitted to EPA by January 15, 2005. Provided funding is available, EPA expects to notify applicants of its funding recommendations in May 2005 and issue the awards in August/September 2005.

DATES: Applications must be submitted to EPA in hard copy by January 15, 2005.

FOR FURTHER INFORMATION CONTACT: For a copy of the full solicitation notice and application instructions, see the Exchange Network Grant Program Web site at http://www.epa.gov/Networkg. (This Web site address is case sensitive.) For further information about the grant program, please contact Rebecca Moser, Exchange Network Grant Program Manager, Office of Information Collection, Office of Environmental Information, U.S. EPA, 1200 Pennsylvania Ave., NW., Mail Code 2823-T, Washington, DC 20460; phone, (202) 566-1679; e-mail, moser.rebecca@epa.gov.

Dated: October 15, 2004.
Mark A. Luttner,
Director, Office of Information Collection, Office of Environmental Information, U.S. Environmental Protection Agency.

[FR Doc. 04-23582 Filed 10-20-04; 8:45 am]

BILLING CODE 6560-50-P